DEPARTMENT OF HEALTH AND HUMAN SERVICES

Health Resources and Services Administration

Advisory Committee on Infant Mortality; Notice of Meeting

In accordance with section 10(a)(2) of the Federal Advisory Committee Act (Pub. L. 92-463), notice is hereby given of the following meeting:

Name: Advisory Committee on Infant Mortality (ACIM).

Dates and Times: March 8, 2012, 8:30 a.m.-6 p.m.; March 9, 2012, 8:30 a.m.-3 p.m.

Place: Hyatt Regency Bethesda, One Bethesda Metro Center, 7400 Wisconsin Avenue, Bethesda, MD 20814, (301) 657-1234.

Status: The meeting is open to the public with attendance limited to space availability.

Purpose: The Committee provides advice and recommendations to the Secretary of Health and Human Services on the following: Department of Health and Human Services' programs that focus on reducing infant mortality and improving the health status of infants and pregnant women; and factors affecting the continuum of care with respect to maternal and child health care. It includes outcomes following childbirth; strategies to coordinate the myriad of Federal, State, local and private programs and efforts that are designed to deal with the health and social problems impacting on infant mortality; and the implementation of the Healthy Start program and Healthy People 2020 infant mortality objectives.

Agenda: Topics that will be discussed include the following: A Health Resources and Services Administration (HRSA) update; a Maternal and Child Health Bureau (MCHB) update; an update from the Committee's four workgroups; updates from the Centers for Medicare & Medicaid Services and the Centers for Disease Control and Prevention; a report from the HRSA/MCHB Regions IV and VI Infant Mortality Summit; Presidential Challenge from the Association of State and Territorial Health Officials; a State-level presentation on activities related to reducing infant mortality; and, Improvement Science. Proposed agenda items are subject to change as priorities dictate.

Time will be provided for public comments, but will be limited to five minutes each. Comments are to be submitted in writing no later than 5 p.m. ET on February 24, 2012.

For Additional Information or to Submit Public Comments: Please contact: David S. de la Cruz, Ph.D., M.P.H., HRSA, SACIM Designated Federal Official, Maternal and Child Health Bureau; telephone: (301) 443-0543; email: David.delaCruz@hrsa.hhs.gov.

Dated: February 7, 2012.
Reva Harris,
Acting Director, Division of Policy and Information Coordination.

[FR Doc. 2012-3286 Filed 2-10-12; 8:45 am]

BILLING CODE 4165-15-P